DEPARTMENT OF HOMELAND SECURITY

Coast Guard

33 CFR Part 165

[Docket Number USCG-2024-0956]

RIN 1625-AA00

Safety Zone; Glen Island Approach Bridge, Long Island Sound, New Rochelle, NY

AGENCY: Coast Guard, DHS.

ACTION: Temporary interim rule and request for comments.

SUMMARY: The Coast Guard is establishing a temporary safety zone for certain waters of Long Island Sound in the vicinity of the Glen Island Approach Bridge, New Rochelle, NY, for construction vessels and machinery involved in the rehabilitation project of the bridge. The safety zone is needed to protect personnel, vessels, and the marine environment from potential hazards associated with the bridge construction between December 2, 2024, through May 27, 2027. When enforced, this regulation prohibits persons and vessels from being in the safety zone unless authorized by the Captain of the Port New York or a designated representative.

DATES: This rule is effective without notice from December 3, 2024, through 5 p.m. on May 27, 2027. For the purposes of enforcement, actual notice will be used from midnight on December 2, 2024, until December 3, 2024. This rule will only be enforced during periods when construction operations at the bridge are in progress.

Comments and related material must be received by the Coast Guard on or before March 3, 2025.

ADDRESSES: To view documents mentioned in this preamble as being available in the docket, go to https://www.regulations.gov, type USCG-2024-0956 in the search box and click “Search.” Next, in the Document Type column, select “Supporting & Related Material.”

FOR FURTHER INFORMATION CONTACT: If you have questions about this rule, call or email Jeffrey Yunker, Waterways Management Division, U.S. Coast Guard Sector New York; telephone 718-354-4195, email Jeffrey.M.Yunker@uscg.mil.

SUPPLEMENTARY INFORMATION:

I. Table of Abbreviations

CFR Code of Federal Regulations

COTP Captain of the Port New York

DHS Department of Homeland Security

FR Federal Register

NPRM Notice of proposed rulemaking

§ Section

U.S.C. United States Code

II. Background Information and Regulatory History

On August 26, 2024, the Westchester County Department of Public Works and Transportation notified the U.S. Coast Guard of the Glen Island Bridge rehabilitation project and the need for waterway closures on the Long Island Sound. This project will establish a temporary bridge to Glen Island while the current bridge undergoes repairs. The Westchester County and the New Rochelle Harbor Master have provided information to the public and interested stakeholders through an established project page maintained by the county located at https://publicworks.westchestergov.com/glen-island-approach-bridge-rehabilitation. This project page has been updated throughout the project and will be maintained to provide updated information to the public until the bridge rehabilitation project is finished. The contractor Kiewit Infrastructure Company has already conducted public outreach meetings with affected mariners and plans additional meetings to address any concerns with regards to the waterway closures in the future.

The Coast Guard is issuing this temporary rule under the authority in 5 U.S.C. 553(b)(B). This statutory provision authorizes an agency to issue a rule without prior notice and opportunity to comment when the agency for good cause finds that those procedures are “impracticable, unnecessary, or contrary to the public interest.” The Coast Guard finds that good cause exists for not publishing a notice of proposed rulemaking (NPRM) with respect to this rule because prompt action is needed to respond to the potential safety hazards associated with the establishment of a temporary bridge and bridge repairs to the existing Glen Island Bridge. Publishing an NPRM would be impracticable and contrary to public interest because a safety zone must be established by December 2, 2024, to ensure that the construction project is not delayed. Any delay in the project would adversely impact vehicle users and mariners in the future.

Also, under 5 U.S.C. 553(d)(3), the Coast Guard finds that good cause exists for making this rule effective less than 30 days after publication in the Federal Register. Delaying the effective date of this rule would be impracticable because prompt action is needed to respond to the potential safety hazards associated with the establishment of a temporary bridge and the construction associated with the rehabilitation of the existing Glen Island Bridge.

Although this regulation is published as an interim rule without prior notice, public comment is nevertheless desirable to ensure that the regulation is both workable and reasonable. Accordingly, persons wishing to comment may do so by submitting written comments as set out under ADDRESSES in this preamble. Commenters should include their names and addresses, identify the docket number for the regulation, and give reasons for their comments. If the Coast Guard determines that changes to the temporary interim rule are necessary, we will publish a temporary final rule or other appropriate document.

III. Legal Authority and Need for Rule

The Coast Guard is issuing this rule under authority in 46 U.S.C. 70034. The Captain of the Port New York (COTP) has determined that potential safety hazards associated with the establishment of a temporary bridge and bridge repairs to the existing Glen Island Bridge from December 2, 2024, through May 27, 2027, constitutes a safety concern for anyone near the waters of Glen Island and in the vicinity of bridge repair vessels and machinery. This rule is needed to protect personnel, vessels, and the marine environment in the navigable waters within the safety zone while the bridge is being repaired.

IV. Discussion of the Rule

This rule establishes a safety zone from 7 a.m. until 5 p.m. each day starting on midnight December 2, 2024, through May 27, 2027. The safety zone will only be enforced during periods when construction operations at the Glen Island Bridge rehabilitation project are in progress. The anticipated dates for the windows of full channel closures are from 7 a.m. on December 2, 2024, through 5 p.m. on December 20, 2024; from 7 a.m. on February 3, 2025, through 5 p.m. on May 22, 2025; and from 7 a.m. on October 2, 2025, through 5 p.m. on April 29, 2026. Additionally, the schedule from 7 a.m. on August 11, 2026, through 5 p.m. on August 17, 2026; 7 a.m. on October 2, 2026, through 5 p.m. on October 29, 2026, is being considered. The Coast Guard will make notice of the safety zone via the Local Notice to Mariners and issue a Broadcast Notice to Mariners via marine channel 16 (VHF-FM) as soon as practicable in advance of these scheduled closures. All these dates are tentative and subject to change due to weather, supply chain delays, or other unforeseen circumstances. This rule remains effective through May 27, 2027, in case the project is delayed due to unforeseen circumstances. The area regulated by the safety zone will encompass the waters around the Glen Island Bridge and will cover all navigable waters, from surface to bottom, within the area formed by connecting the following latitude and longitude points in the following order:

40°53′18.58″ N 73°46′56.26″ W; thence to 40°53′22.08″ N 73°46′59.39″ W; thence north along the shore to 40°53′23.8″ N 73°46′57.51″ W; thence to 40°53′19.15″ N 73°46′52.54″ W and thence south along the shore back to the point of origin. This area is intended for the vessels and machinery being used by personnel for the Glen Island Bridge rehabilitation project. The duration of the zone is intended to ensure the safety of personnel, vessels, and these navigable waters during the bridge construction. No vessel or person will be permitted to enter the safety zone without obtaining permission from the COTP or a designated representative.

The Coast Guard will make notice of the safety zone via the Local Notice to Mariners and issue a Broadcast Notice to Mariners via marine channel 16 (VHF-FM) as soon as practicable in response to an emergency or hazardous condition. In addition, if the project is completed before May 27, 2027, enforcement of the safety zone will be suspended, and notice given via Local Notice to Mariners. The First Coast Guard District Local Notice to Mariners can be found at: http://www.navcen.uscg.gov.

V. Regulatory Analyses

We developed this rule after considering numerous statutes and Executive orders related to rulemaking. Below we summarize our analyses based on a number of these statutes and Executive orders, and we discuss First Amendment rights of protestors.

A. Regulatory Planning and Review

Executive Orders 12866 and 13563 direct agencies to assess the costs and benefits of available regulatory alternatives and, if regulation is necessary, to select regulatory approaches that maximize net benefits. This rule has not been designated a “significant regulatory action,” under section 3(f) of Executive Order 12866, as amended by Executive Order 14094 (Modernizing Regulatory Review). Accordingly, this rule has not been reviewed by the Office of Management and Budget (OMB).

This regulatory action determination is based on the size, location, duration and time of year of the planned enforcement periods of the safety zone. The bridge owner and contractor are coordinating the full waterway closures with Westchester County and New Rochelle Harbor Master. The safety zone will impact a small, designated area underneath and around the Glen Island Bridge and will not cause major impacts to vessel traffic. The impact to these entities would be minimal because mariners are able to make a short transit (approximately 20 minutes) around Glen Island to reach any destination on the other side to Long Island Sound. The Coast Guard will notify the public of the enforcement of this rule through appropriate means, which may include, but are not limited to, publication in the Local Notice to Mariners and Broadcast Notice to Mariners via VHF-FM marine channel 16.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this rule will not have a significant economic impact on a substantial number of small entities.

While some owners or operators of vessels intending to transit the safety zone may be small entities, for the reasons stated in section V.A above, this rule will not have a significant economic impact on any vessel owner or operator.

Under section 213(a) of the Small Business Regulatory Enforcement Fairness Act of 1996 (Pub. L. 104-121), we want to assist small entities in understanding this rule. If the rule would affect your small business, organization, or governmental jurisdiction and you have questions concerning its provisions or options for compliance, please call or email the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule will not call for a new collection of information under the Paperwork Reduction Act of 1995 (44 U.S.C. 3501-3520).

D. Federalism and Indian Tribal Governments

A rule has implications for federalism under Executive Order 13132, Federalism, if it has a substantial direct effect on the States, on the relationship between the National Government and the States, or on the distribution of power and responsibilities among the various levels of government. We have analyzed this rule under that Order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

F. Environment

We have analyzed this rule under Department of Homeland Security Directive 023-01, Rev. 1, associated implementing instructions, and Environmental Planning COMDTINST 5090.1 (series), which guide the Coast Guard in complying with the National Environmental Policy Act of 1969 (42 U.S.C. 4321-4370f), and have determined that this action is one of a category of actions that do not individually or cumulatively have a significant effect on the human environment. This rule involves a safety zone in vicinity of the Glen Island Bridge on the navigable waters within Long Island Sound that will limit entry to the project area without authorization from the Captain of the Port or their designated representatives. It is categorically excluded from further review under paragraph L60(a) of Appendix A, Table 1 of DHS Instruction Manual 023-01-001-01, Rev. 1. A Record of Environmental Consideration supporting this determination is available in the docket. For instructions on locating the docket, see the ADDRESSES section of this preamble.

G. Protest Activities

The Coast Guard respects the First Amendment rights of protesters. Protesters are asked to call or email the person listed in the FOR FURTHER INFORMATION CONTACT section to coordinate protest activities so that your message can be received without jeopardizing the safety or security of people, places, or vessels.

List of Subjects in 33 CFR Part 165

Harbors, Marine safety, Navigation (water), Reporting and recordkeeping requirements, Security measures, Waterways.

For the reasons discussed in the preamble, the Coast Guard amends 33 CFR 165 as follows:

PART 165—REGULATED NAVIGATION AREAS AND LIMITED ACCESS AREAS

1. The authority citation for part 165 continues to read as follows:

Authority: 46 U.S.C. 70034, 70051, 70124; 33 CFR 1.05-1, 6.04-1, 6.04-6, and 160.5; Department of Homeland Security Delegation No. 00170.1, Revision No. 01.3.

2. Add § 165.T01-0956 to read as follows:

§ 165.T01-0956 Safety Zone; Glen Island Approach Bridge, Long Island Sound, New Rochelle, NY.

(a) Location. The following area is a safety zone: All the navigable waters of the Long Island Sound in the vicinity of the Glen Island Approach Bridge, New Rochelle, NY, from surface to bottom, encompassed by a line connecting the following points beginning at 40°53′18.58″ N 73°46′56.26″ W; thence to 40°53′22.08″ N 73°46′59.39″ W; thence north along the shore to 40°53′23.8″ N 73°46′57.51″ W; thence to 40°53′19.15″ N 73°46′52.54″ W and thence south along the shore back to the point of origin. These coordinates are based on the 1984 World Geodetic System (WGS 84).

(b) Definitions. As used in this section, designated representative means a Coast Guard Patrol Commander, including a Coast Guard coxswain, petty officer, or other officer operating a Coast Guard vessel and a Federal, State, and local officer designated by or assisting the Captain of the Port New York (COTP) in the enforcement of the safety zone.

(c) Regulations. (1) Under the general safety zone regulations in subpart C of this part, you may not enter the safety zone described in paragraph (a) of this section unless authorized by the COTP or the COTP's designated representative.

(2) To seek permission to enter, contact the COTP or the COTP's representative via VHF Channel 16 or by phone at (844) 692-8724 (Sector New York Command Center). Those in the safety zone must comply with all lawful orders or directions given to them by the COTP or the COTP's designated representative.

(d) Enforcement period. This section is effective from December 2, 2024, through May 27, 2027, but will only be enforced during periods when construction operations at the Glen Island Approach Bridge are in progress. The Coast Guard will make notice of this safety zone via the Local Notice to Mariners and issue a Broadcast Notice to Mariners via marine channel 16 (VHF-FM) as soon as practicable in advance of these scheduled closures and in response to any emergency or hazardous condition. In addition, if the project is completed before May 27, 2027, enforcement of the safety zone will be suspended, and notice given via Local Notice to Mariners. The First Coast Guard District Local Notice to Mariners can be found at: http://www.navcen.uscg.gov.

Jonathan A. Andrechik,
Captain, U.S. Coast Guard, Captain of the Port Sector New York.

[FR Doc. 2024-28295 Filed 12-2-24; 8:45 am]

BILLING CODE 9110-04-P